DEPARTMENT OF HEALTH AND HUMAN SERVICES

[Document Identifier OS-0990-new]

Agency Information Collection Request; 60-Day Public Comment Request

AGENCY: Office of the Secretary, HHS

ACTION: Notice.

SUMMARY: In compliance with the requirement of the Paperwork Reduction Act of 1995, the Office of the Secretary (OS), Department of Health and Human Services, is publishing the following summary of a proposed collection for public comment.

DATES: Comments on the ICR must be received on or before December 11, 2017.

ADDRESSES: Submit your comments to Sherrette.Funn@hhs.gov or by calling (202) 795-7714.

FOR FURTHER INFORMATION CONTACT: When submitting comments or requesting information, please include the document identifier 0990-New-60D and project title for reference, to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: I Can Do It, You Can Do It! Program Evaluation.

Type of Collection: New.

OMB No. 0990-NEW-Office within OS—Office of the President's Council on Fitness, Sports & Nutrition (OPCFSN), Office of the Assistant Secretary for Health.

Abstract: Initiated by the former HHS Office on Disability, supported by the Eunice Kennedy Shriver National Institute of Child Health and Human Development and the former Division of Nutrition Research Coordination at the National Institutes of Health, and adopted by OPCFSN in 2011, the I Can Do It, You Can Do It! health promotion program is designed to provide access and opportunities for children and adults with a wide range of physical and cognitive disabilities to lead healthy, active lives. Approximately 56 million children and adults living in the United States have some level of disability. Despite physical activity and good nutrition being the cornerstones of evidence-based health promotion interventions for reducing the risk of comorbidities (e.g., diabetes, heart disease, stroke), many people with a disability or caregivers who have a child with a disability experience substantial difficulty accessing these programs. The program partners with K-12 schools and school districts, colleges and universities, and other community-based entities that implement the program using a mentoring approach that has been well-documented in the research literature as efficacious in changing the attitudes, knowledge, and health behaviors of individuals with and without a disability.

The information collected for the I Can Do It, You Can Do It! Program Evaluation will allow the OPCFSN and partners to assess the impact of the program and gather critical information for improvement.

Annualized Burden Hour Table
Forms | Respondents | Number of respondents | Number of responses per respondents | Average burden per response | Total burden hours
Advocate Form | Site Coordinator | 10 | 1 | 20/60 | 3
Advocate Annual Follow-Up Survey | Site Coordinator | 10 | 1 | 20/60 | 3
End of Wave 1 Interview Script | Site Coordinator | 10 | 1 | 1 | 10
End of Wave 1 Feedback Survey | Site Coordinator | 10 | 1 | 45/60 | 8
End of Wave 2 Interview | Site Coordinator | 10 | 1 | 1 | 10
End of Wave 2 Feedback Survey | Site Coordinator | 10 | 1 | 20/60 | 3
Technical Assistance Assessment | Site Coordinator | 10 | 1 | 25/60 | 4
Mentee Pre-Assessment | Mentee/Program Participant | 700 | 1 | 20/60 | 233
Mentee Post-Assessment | Mentee/Program Participant | 700 | 1 | 20/60 | 233
Mentor Feedback Survey | Mentor | 700 | 1 | 15/60 | 175
Weekly Goal-Setting Guide | Mentor | 700 | 10 | 10/60 | 1166
Mentee Focus Group Script | Mentee/Program Participant | 60 | 1 | 1 | 60
Parent/Guardian Focus Group Script | Mentee's Parent/Guardian | 60 | 1 | 1 | 60
Total |  |  | 22 |  | 1968

Terry S. Clark,
Office of the Secretary, Asst Paperwork Reduction Act Reports Clearance Officer.

[FR Doc. 2017-21983 Filed 10-11-17; 8:45 am]

BILLING CODE 4150-35-P